DEPARTMENT OF JUSTICE

Antitrust Division

Notice Pursuant to the National Cooperative Research and Production Act of 1993—Training & Readiness Accelerator II

Notice is hereby given that, on September 4, 2024, pursuant to section 6(a) of the National Cooperative Research and Production Act of 1993, 15 U.S.C. 4301 et seq. (“the Act”), Training & Readiness Accelerator II (“TReX II”) has filed written notifications simultaneously with the Attorney General and the Federal Trade Commission disclosing changes in its membership. The notifications were filed for the purpose of extending the Act's provisions limiting the recovery of antitrust plaintiffs to actual damages under specified circumstances.

Specifically, Agile Decision Sciences, LLC, Huntsville, AL; AI Strategy Corp, Babylon, NY; Air-Quality Remote-Sensing Consulting, LLC, Madison, AL; Alaka'i Services Group, Inc., Honolulu, HI; Amazon Web Services, Inc., Seattle, WA; Augustine Consulting, Inc., Hamilton, NJ; Auriga Space, Inc., San Francisco, CA; Avarint, LLC, Buffalo, NY; Bishop Ascendant, Inc., Caldwell, NJ; CALIBRE Systems, Inc., Alexandria, VA; CLogic Defense LLC, Jacksonville, FL; Core4ce LLC, Reston, VA; Crowdbotics Corp., Berkeley, CA; Davidson Technologies, Inc., Huntsville, AL; Deep Analytics, LLC, Montpelier, VT; Design West Technologies, Inc., Tustin, CA; DICE Defense LLC, Orlando, FL; DRS Sustainment Systems, Inc., Bridgeton, MO; Dynepic, Inc., Reno, NV; Echodyne Corp., Kirkland, WA; Edge Case Research, Inc., Pittsburgh, PA; Ernst and Young, LLP, New York, NY; Gigantor Technologies, Inc., Melbourne Beach, FL; HAVIK Solutions, LLC, San Diego, CA; HyperBlox Inc., Nashua, NH; IEC Infrared Systems, LLC, Middleburg Heights, OH; Integrated Consultants, Inc., San Diego, CA; Integris Composites, Inc., Goleta, CA; Intelligent Decision Systems, Inc., dba IDSI, Chantilly, VA; International Business Machines Corp., Bethesda, MD; JackTech, LLC, Washington, DC; JIRACOR LLC, Orlando, FL; LMI Consulting, LLC, Tysons, VA; Meroxa, Inc., San Jose, CA; MetroStar Systems, LLC, Reston, VA; Nautilus Defense, LLC, Pawtucket, RI; Nebula Compute, Inc., Wilkes Barre, PA; Open Source Systems, LLC, Suwanee, GA; Programmed Response, LLC, Huntsville, AL; Public Spend Forum LLC, Washington, DC; Quantum Improvements Consulting, LLC, Orlando, FL; Quoherent, Inc., Huntsville, AL; Response AI Solutions LLC, Arlington, VA; RoGO Fire, LLC, dba RoGO Communications, Westminster, CO; Safire Technology Group, Inc., Tysons, VA; Shearwater Technology, Inc., Washington, IL; Siemens Government Technologies, Inc., Reston, VA; Snowflake Inc., Bozeman, MT; SPARC Research, LLC, Warrenton, VA; Sterling Computers Corp., North Sioux City, SD; Symbiosis.io, LLC, Smyrna, GA; Terida, LLC, Pinehurst, NC; Third Coast Federal, Inc., South Bend, IN; Treble One, LLC, Dayton, OH; Trenchant Analytics, LLC, Great Falls, VA; Trex Enterprises Corp., El Cajon, CA; Via Science, Inc., Somerville, MA; VicForms, LLC, Frackville, PA; and Enquire AI, Inc., Washington, DC, have been added as parties to this venture.

Also, Solid State Scientific Corp., Hollis, NH, has withdrawn as a party to this venture.

No other changes have been made in either the membership or planned activity of the group research project. Membership in this group research project remains open, and TReX II intends to file additional written notifications disclosing all changes in membership.

On February 17, 2023, TReX II filed its original notification pursuant to section 6(a) of the Act. The Department of Justice published a notice in the Federal Register pursuant to section 6(b) of the Act on June 13, 2023 (88 FR 38536).

The last notification was filed with the Department on April 19, 2024. A notice was published in the Federal Register pursuant to section 6(b) of the Act on June 28, 2024 (89 FR 54045).

Suzanne Morris,
Deputy Director Civil Enforcement Operations, Antitrust Division.

[FR Doc. 2024-23627 Filed 10-10-24; 8:45 am]

BILLING CODE P